DEPARTMENT OF ENERGY

Federal Energy Regulatory Commission

Notice of FERC Staff Participation at MISO Advisory Committee Meetings and MISO Board of Director Meetings

August 13, 2003.

The Federal Energy Regulatory Commission hereby gives notice that members of its staff will attend the monthly Advisory Committee meetings and Board of Director meetings of the Midwest Independent Transmission System Operator, Inc. (MISO). The staff's attendance is part of the Commission's ongoing outreach efforts.

The meetings are held monthly. The Advisory Committee meetings for 2003 will be held on August 20, September 17, October 15, November 19 and December 10, 2003 “ beginning at 10 a.m. The Advisory Committee meetings for 2003 will be held at the Lakeside Corporate Center (directly across from MISO's headquarters), 701 City Center Drive, Carmel IN 46032.

The Board of Director meetings will be held on August 21, September 18, October 16, November 20, and December 11, 2003 “ beginning at 8:30 am. The Board of Director meetings will be held at MISO's headquarters, 701 City Center Drive, Carmel, IN 46032.

These meetings are open to the public. The meetings may discuss matters at issue in Docket No. RM01-12-000, Remedying Undue Discrimination Through Open Access Transmission Service and Standard Electricity Market Design; in Docket No. EL02-65-000, et al., Alliance Companies, et al.; in Docket No. RT01-87-000, et al., Midwest Independent Transmission System Operator, Inc.; in Docket No. ER03-323, et al., Midwest Independent Transmission System Operator, Inc., and in Docket No. ER03-1118, Midwest Independent Transmission System Operator, Inc.

For more information, contact Patrick Clarey, Office of Markets, Tariffs and Rates, Federal Energy Regulatory Commission at (317) 249-5937 or patrick.clarey@ferc.gov, or Christopher Miller, Office of Markets, Tariffs and Rates, Federal Energy Regulatory Commission at (317) 249-5936 or christopher.miller@ferc.gov.

Linda Mitry,
Acting Secretary.

[FR Doc. 03-21258 Filed 8-19-03; 8:45 am]

BILLING CODE 6717-01-P